DEPARTMENT OF DEFENSE

Department of the Army: Corps of Engineers

Availability of the Draft Environmental Impact Statement (DEIS), for the Pike County, KY (Levisa Fork Basin), Section 202 Project

AGENCY: Department of the Army, U.S. Army Corps of Engineers, DOD.

ACTION: Notice of availability.

SUMMARY: In accordance with the requirements of the National Environmental Policy Act (NEPA), the U.S. Army Corps of Engineers (USACE), Huntington District has prepared a Draft Environmental Impact Statement (DEIS) in response to section 202 of the Water Resources Development Act of 1996 (WRDA). This act authorizes the Corps to design, construct and implement flood damage reduction measures relating to the Levisa and Tug Fork of the Big Sandy River and Cumberland River in West Virginia, Kentucky and Virginia. The DEIS documents analyses of flood damage reduction measures that would provide protection for the Levisa Fork and Russell Fork basins within Pike County, Kentucky against flooding such as occurred in April 1977, the flood of record for most of the county.

DATES: The agency must receive comments on or before March 26, 2004, to ensure consideration in final plan development. A public hearing on the Pike County, Kentucky (Levisa Fork Basin), Section 202 Project DEIS will be held at the Pikeville High School, 120 Championship Drive, Pikeville, Kentucky on Thursday, March 4, 2004, beginning at 5 p.m.

ADDRESSES: Send written comments and suggestions concerning this proposed project to S. Michael Worley, PM-PD, U.S. Army Corps of Engineers, Huntington District, 502 Eighth Street, Huntington, WV 25701-2070. Telephone: (304) 399-5636 or Fax: (304) 399-5136. Requests for copies of the DEIS or to be placed on the mailing list should also be sent to this address. Submit electronic comments in ASCII, Microsoft Word, or Word Perfect file format to Stephen.M.Worley@usace.army.mil.

FOR FURTHER INFORMATION CONTACT: To obtain additional information about the proposed project, contact Mr. Mark D. Kessinger, PM-P, U.S. Army Corps of Engineers, Huntington District, 502 Eighth Street, Huntington, WV 25701-2070. Telephone: (304) 399-5083. Electronic mail: Mark.d.kessinger@usace.army.mil.

SUPPLEMENTARY INFORMATION: Detailed project studies have included consideration of a number of basin-wide and local flood damage reduction measures including floodwall/levee systems protecting Pikeville and Coal Run, non-structural flood-proofing measures, floodplain acquisition and ring walls protecting several individual structures. The project would provide flood protection measures to approximately 2,000 structures, 75 percent of which are residential. Three alternatives, based on these flood damage reduction measures, along with the no action alternative, have been evaluated in detail and the results documented in the DEIS.

A public hearing on the DEIS will be held at Pikeville High School (see DATES). The hearing will provide an opportunity for the public to present oral and/or written comments. All persons and organizations that have an interest in the Levisa Fork Basin flooding problems as they affect Pike County and the environment are urged to participate in this meeting.

USACE has distributed copies of the DEIS to appropriate Members of Congress, State and local government officials in Kentucky, Federal agencies, and other interested parties. Copies of the document may be obtained by contacting USACE Huntington District Office of the Corps of Engineers (See ADDRESSES) and are available for public review at the following locations:

(1) Pike County Public Library, 119 College Street, Pikeville, Kentucky 41522.

(2) Pike County Public Library, Elkhorn City Branch, 309 Main Street, Elkhorn City, KY 41522.

(3) Pike County Public Library, Phelps Branch, 38575 State Highway 194 E., Phelps, KY 41553.

(4) Vesta Roberts Johnson Memorial Library, Virgie, KY 41572.

(5) Frank M. Allara Library, Pikeville College, 147 Sycamore Street, Pikeville, KY 41500.

(6) US Army Corps of Engineers, Room 3100, 502 Eighth Street PD-R, Huntington, WV 25701.

(7) Internet- http://www.lrh.usace.army.mil/projects/current/pikelevisafork.

After the public comment period ends on March 26, 2004, USACE will consider all comments received. The Draft EIS will be revised as appropriate, and a Final EIS will be issued.

Luz D. Ortiz,
Army Federal Register Liaison Officer.

[FR Doc. 04-2499 Filed 2-5-04; 8:45 am]

BILLING CODE 3710-GM-M